NATIONAL FOUNDATION FOR THE ARTS AND THE HUMANITIES

National Endowment for the Arts; National Council on the Arts 162nd Meeting

Pursuant to section 10(a)(2) of the Federal Advisory Committee Act (Pub. L. 92-463), as amended, notice is hereby given that a meeting of the National Council on the Arts will be held on November 2, 2007 in Room 527 at the Nancy Hanks Center, 1100 Pennsylvania Avenue, NW., Washington, DC 20506.

This meeting, from 9 a.m. to 12 p.m. (ending time is approximate), will be open to the public on a space available basis. Opening remarks and announcements will include a film clip from Why Shakespeare? and the swearing in of a new Council member. After the swearing in, there will be an update from the Government Affairs office. The meeting will include a presentation on Shakespeare in American Communities, including a performance excerpt from Romeo and Juliet as well as speakers from The Acting Company and the Utah Shakespearean Festival. This will be followed by a presentation on the NEA National Heritage Fellowships 25th anniversary, including highlights from the 2007 awards ceremony and concert and an illustrated talk by a documentary filmmaker highlighting several NEA National Heritage Fellowship recipients. After the presentations the Council will review and vote on applications and guidelines, and the meeting will conclude with a general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: October 4, 2007.
Kathy Plowitz-Worden,
Panel Coordinator, Office of Guidelines and Panel Operations.

[FR Doc. E7-19965 Filed 10-10-07; 8:45 am]

BILLING CODE 7537-01-P